DEPARTMENT OF DEFENSE

Office of the Secretary

Renewal of U.S. Naval Academy Board of Visitors

AGENCY: DoD.

ACTION: Renewal of Federal Advisory Committee.

SUMMARY: Under the provisions of the Federal Advisory Committee Act of 1972 (5 U.S.C. Appendix), the Government in the Sunshine Act of 1976 (5 U.S.C. 552b), and 41 CFR 102-3.50(d), the Department of Defense gives notice that it is renewing the charter for the U.S. Naval Academy Board of Visitors (hereafter referred to as “the Board”).

The Board is a non-discretionary federal advisory committee that shall provide independent advice and recommendations to the President of the United States on matters relating to but not limited to morale and discipline, curriculum, instruction, physical equipment, fiscal affairs, academic methods and other matters relating to the United States Naval Academy that the Board decides to consider.

The Board shall visit the Naval Academy annually, and any other official visits by the Board or its members to the Academy, other than the annual visit, shall be made in compliance with the requirements set forth in 10 U.S.C. 6968(d). The Board shall submit a written report to the President of the United States within 60 days after its annual visit to the Naval Academy, to include the Board's views and recommendations pertaining to the Academy, including its advice and recommendations on matters set forth in the paragraph above. Any report of a visit, other than an annual visit, must be made pursuant to 10 U.S.C. 6968(f).

The Board, pursuant to 10 U.S.C. 6968(a), shall be constituted annually and shall be composed of no more than 15 members. The Board membership shall include:

a. The Chairman of the Committee on Armed Services of the Senate, or his designee;

b. Three other members of the Senate designated by the Vice President or the President pro tempore of the Senate, two of whom are members of the Committee on Appropriations of the Senate;

c. The Chairman of the Committee on Armed Services of the House of Representatives, or his designee;

d. Four other members of the House of Representatives designated by the Speaker of the House of Representatives, two of whom are members of the Committee on Appropriations of the House of Representatives; and

e. Six persons designated by the President.

Board members designated by the President shall serve for three years each, except that any member whose term of office has expired shall continue to serve until his successor is appointed. In addition, the President shall designate two persons each year to succeed the members whose terms expire that year. If a Board member dies or resigns, a successor shall be designated for the unexpired portion of the term by the official who designated the member.

The Board members shall select the Board's Chairperson from the total membership. With the exception of travel and per diem for official travel, Board members shall serve without compensation.

The Board, pursuant to 10 U.S.C. § 6968(g) and (h), may upon approval by the Secretary of the Navy, call in advisers for consultation, and these advisers shall, with the exception of travel and per diem for official travel, serve without compensation.

With DoD approval, the Board is authorized to establish subcommittees, as necessary and consistent with its mission. Establishment of subcommittees will be based upon written determination, to include terms of reference, by the Secretary of Defense, the Deputy Secretary of Defense, or the Board's sponsor.

Such subcommittees or workgroups shall not work independently of the chartered Board, and shall report all their recommendations and advice to the Board for full deliberation and discussion. Subcommittees or workgroups have no authority to make decisions on behalf of the chartered Board; nor can they report directly to the Department of Defense or any Federal officers or employees who are not Board members.

Subcommittee members shall be appointed by the Secretary of Defense even if the member in question is already a Board member. Subcommittee members, with the approval of the Secretary of Defense, may serve a term of service on the subcommittee of one-to-four years; however, no member shall serve more than two consecutive terms of service on the subcommittee.

Subcommittee members, if not full-time or part-time government employees, shall be appointed by the Secretary of Defense according to governing DoD policy and procedures. Such individuals shall be appointed to serve as experts and consultants under the authority of 5 U.S.C. 3109, and shall serve as special government employees, whose appointments must be renewed by the Secretary of Defense on an annual basis.

All subcommittees or working groups shall operate under the provisions of FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Board shall meet at the call of the Designated Federal Officer, in consultation with the Board's Chairperson. The estimated number of Board meetings is four per year.

In addition, the Designated Federal Officer is required to be in attendance at all Board and subcommittee meetings; however, in the absence of the Designated Federal Officer, a properly approved Alternate Designated Federal Officer shall attend the Board or subcommittee meeting.

The Designated Federal Officer, or the Alternate Designated Federal Officer, shall call all of the Board's and subcommittee's meetings; prepare and approve all meeting agendas; adjourn any meeting when the Designated Federal Officer, or the Alternate Federal Officer, determines adjournment to be in the public interest or required by governing regulations or DoD policies/procedures; and chair meetings when directed to do so by the official to whom the Board reports.

Pursuant to 41 CFR 102-3.105(j) and 102-3.140, the public or interested organizations may submit written statements to U.S. Naval Academy Board of Visitors membership about the Board's mission and functions. Written statements may be submitted at any time or in response to the stated agenda of planned meeting of U.S. Naval Academy Board of Visitors.

All written statements shall be submitted to the Designated Federal Officer for the U.S. Naval Academy Board of Visitors, and this individual will ensure that the written statements are provided to the membership for their consideration. Contact information for the U.S. Naval Academy Board of Visitors' Designated Federal Officer can be obtained from the GSA's FACA Database— https://www.fido.gov/facadatabase/public.asp.

The Designated Federal Officer, pursuant to 41 CFR 102-3.150, will announce planned meetings of the U.S. Naval Academy Board of Visitors. The Designated Federal Officer, at that time, may provide additional guidance on the submission of written statements that are in response to the stated agenda for the planned meeting in question.

Dated: August 29, 2012.
Aaron Siegel,
Alternate OSD Federal Register Liaison Officer, Department of Defense.

[FR Doc. 2012-21718 Filed 9-4-12; 8:45 am]

BILLING CODE 5001-06-P